DEPARTMENT OF COMMERCE

Foreign-Trade Zones Board

[B-42-2018]

Foreign-Trade Zone (FTZ) 244—Riverside County, California; Notification of Proposed Production Activity; ModusLink Corporation (Camera and Accessories Kitting); Riverside, California

ModusLink Corporation (ModusLink) submitted a notification of proposed production activity to the FTZ Board for its facility in Riverside, California. The notification conforming to the requirements of the regulations of the FTZ Board (15 CFR 400.22) was received on June 28, 2018.

ModusLink already has authority for the kitting of cameras and accessories into retail packages on behalf of Go Pro, Inc., within Site 11 of FTZ 244. The current request would add finished products and foreign status materials/components to the scope of authority. Pursuant to 15 CFR 400.14(b), additional FTZ authority would be limited to the specific foreign-status materials/components and specific finished products described in the submitted notification (as described below) and subsequently authorized by the FTZ Board.

Production under FTZ procedures could exempt ModusLink from customs duty payments on the foreign-status materials/components used in export production. On its domestic sales, for the foreign-status materials/components noted below and in the existing scope of authority, ModusLink would be able to choose the duty rates during customs entry procedures that apply to: Manfrotto/MBooms3K monopods; wireless transmitters; digital video camera bundles; pro seat rail mounts; karma upgrade kits (cameras, mounts, batteries, chargers, grips, and stabilizers); point of purchase displays, and lens replacement kits (duty rate ranges from duty-free to 10%). ModusLink would be able to avoid duty on foreign-status components which become scrap/waste. Customs duties also could possibly be deferred or reduced on foreign-status production equipment.

The materials/components sourced from abroad include: Dog harness camera mounts; chest mount harnesses (textile); camera mount hardware; USB hubs (vertical 7-ports); remote controls; protective lens for cameras; protective lens cover films; inner tray plastic packaging; camera cases; bags, microfibers, and dive filters; carton tops paper packaging; envelopes; knob thumbscrew assemblies; screws, bolts, nuts, rivets, cotter pins, and washers (iron/steel); stainless steel nuts; non-threaded screws, nuts, washers, bolts; camera stands or tripods; screwdrivers; product security sensors; electrical switches and connectors; electrical boards; instruction guides; insulated logo bottles; textile bag packs; men's knitted shirts; men's t-shirts; women's t-shirts; men's sweatshirts; lithium-ion storage batteries; belt buckles (unisex); women's sweatshirts; men's jackets; hats (unisex) and, WiFi remote keys and rings (duty rate ranges from duty-free to 32%). The request indicates that textile bag packs; textile chest mount harnesses; bags, microfibers, and dive filters; camera cases; men's knitted shirts; men's t-shirts; women's t-shirts; men's sweatshirts; lithium-ion storage batteries; women's sweatshirts, and men's jackets will be admitted to the zone in privileged foreign status (19 CFR 146.41), thereby precluding inverted tariff benefits on such items.

Public comment is invited from interested parties. Submissions shall be addressed to the Board's Executive Secretary at the address below. The closing period for their receipt is August 15, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Christopher Wedderburn at Chris.Wedderburn@trade.gov or (202) 482-1963.

Dated: June 29, 2018.
Elizabeth Whiteman,
Acting Executive Secretary.

[FR Doc. 2018-14517 Filed 7-5-18; 8:45 am]

BILLING CODE 3510-DS-P